DEPARTMENT OF STATE

[Public Notice: 12380]

Notice of Public Meeting: International Information and Communications Policy Division Stakeholder Briefing

ACTION: Notice of public meeting.

SUMMARY: The State Department will hold a public meeting at 2 p.m.—3:30 p.m. (ET) on WebEx with the Bureau of Cyberspace and Digital Policy's International Information and Communications Policy (CDP/ICP) division. The purpose of the meeting is to brief stakeholders on CDP/ICP's past and upcoming international engagements. These include engagement at the United Nations, International Telecommunication Union (ITU), the Organization of American States Inter-American Telecommunication Commission (CITEL), the Organization for Economic Cooperation and Development (OECD), the Asia Pacific Economic Cooperation (APEC) Forum Telecommunications and Information Working Group, the Group of Seven (G7) Digital & Tech Working Group, the Group of Twenty (G20) Digital Economy Working Group, and other multilateral processes and bilateral digital and ICT dialogues.

DATES: The meeting will be on May 13, 2024.

FOR FURTHER INFORMATION CONTACT: Please contact Daniel Oates, Global Technology Policy Advisor, CDP/ICP, at OatesDM@state.gov or 202-436-5516.

SUPPLEMENTARY INFORMATION: Additional information about the Bureau of Cyberspace and Digital Policy is accessible at https://www.state.gov/bureaus-offices/deputy-secretary-of-state/bureau-of-cyberspace-and-digital-policy/.

We encourage anyone wanting to attend this virtual meeting to register using the following link by 5 p.m. Thursday, May 9: https://statedept.webex.com/weblink/register/r1998313a5baf14626f69e67867736ed1.

Requests for reasonable accommodation made after April 29 will be considered but might not be able to be accommodated. The public may have an opportunity to provide comments at this meeting.

Agenda

Monday, May 13, at 2 p.m. (ET)

Opening Remarks

Briefings on CDP/ICP's past and upcoming activities

Public Comment

Adjournment

(Authority: 5 U.S.C. 552 and 22 U.S.C. 2707)

Stephan A. Lang,
Deputy Assistant Secretary, International Information and Communications Policy, Bureau of Cyberspace and Digital Policy, Department of State.

[FR Doc. 2024-08352 Filed 4-18-24; 8:45 am]

BILLING CODE 4710-10-P